DEPARTMENT OF TRANSPORTATION

National Highway Traffic Safety Administration

[Docket No. DOT-NHTSA-2013-0089]

Request for Comments on a New Information Collection

AGENCY: National Highway Traffic Safety Administration (NHTSA), DOT.

ACTION: Notice and request for comments.

SUMMARY: In compliance with the Paperwork Reduction Act of 1995 (44 U.S.C. 3501 et seq.), this notice announces that the Information Collection Request (ICR) abstracted below is being forwarded to the Office of Management and Budget (OMB) for review and comments.

DATES: Comments must be submitted on or before January 27, 2014.

ADDRESSES: Send comments to the Office of Information and Regulatory Affairs, Office of Management and Budget, 725-17th Street NW., Washington, DC 20503, Attention: NHTSA Desk Officer.

FOR FURTHER INFORMATION CONTACT: For additional information or access to background documents, contact James Bean, Office of Data Acquisitions (NVS-410), Room W53-489, 1200 New Jersey Avenue SE., Washington, DC 20590. Mr. Bean's telephone number is (202) 366-2837.

SUPPLEMENTARY INFORMATION: Before a Federal agency can collect certain information from the public, it must receive approval from the Office of Management and Budget (OMB). In compliance with these requirements, this notice announces that the following information collection request has been forwarded to OMB. A Federal Register Notice soliciting comments on the following information collection was published on September 6, 2013 (Volume 78, Number 173; Pages 54954-55). The agency received no comments in response to the Federal Register Notice.

Title: National Automotive Sampling System (NASS) Law Enforcement Information.

OMB Control Number: Not assigned.

Type of Request: New Information Collection.

Abstract: This collection of information is part of NHTSA's efforts to upgrade its crash data systems. NHTSA's National Automotive Sampling System (NASS) collects crash data on a nationally representative sample of police-reported traffic crashes and related injuries. NASS data are used by government, industry, and academia in the U.S. and around the world to make informed highway safety decisions.

Recognizing the importance as well as the limitations of the current NASS system, NHTSA is undertaking a modernization effort to upgrade its data systems by improving the information technology (IT) infrastructure, updating the data collected, and reexamining the NASS sample sites and sample size.

The current data system samples crashes through a clustered sample of law enforcement agencies that were selected decades ago. Using updated population and other auxiliary information, NHTSA has identified a new set of probabilistically selected geographic locations around the country that are expected to provide a more accurate traffic safety picture, more precise estimates, and greater insight into new and emerging data needs.

This collection of information will assist NHTSA with the next step in updating the NASS sample design, which is to select a fresh sample of law enforcement agencies within these primary sampling units (PSUs). This requires compiling basic crash count data from every law enforcement agency that responds to motor vehicle crashes in the PSUs. This data would be used to construct a measure of size in order to make informed and efficient choices in the probabilistic selection of the second stage sample units, the law enforcement agencies.

Affected Public: Law Enforcement Agencies.

Estimated Number of Respondents: 1,450 Law Enforcement Agencies.

Estimated Number of Responses: We estimate that 90 percent of the Law Enforcement Agencies will respond so approximately 1,305 responses.

Annual Estimated Total Annual Burden Hours: The annual burden is estimated to be 2,900 hours.

Frequency of Collection: This is a one-time collection.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.95.

Issued in Washington, DC, on December 23, 2013.
Terry T. Shelton,
Associate Administrator, National Center for Statistics and Analysis.

[FR Doc. 2013-30987 Filed 12-26-13; 8:45 am]

BILLING CODE 4910-59-P